OFFICE OF MANAGEMENT AND BUDGET

Public Availability of Fiscal Year (FY) 2003 Agency Inventories Under the Federal Activities Inventory Reform Act of 1998 (Pub. L. 105-270) (“FAIR Act”).

AGENCY: Office of Management and Budget; Executive Office of the President.

ACTION: Notice of public availability of agency inventory of activities that are not inherently governmental and of activities that are inherently governmental.

SUMMARY: In accordance with the FAIR Act, agency inventories of activities that are not inherently governmental are now available to the public from the agencies listed below for FY 2003. Each fiscal year, the FAIR Act requires that OMB publish an announcement of public availability of agency inventories of activities that are not inherently governmental. After review and consultation with OMB, agencies are required to make their inventories available to the public. Agencies have also included activities that are inherently governmental. This is the first release of the FAIR Act inventories for FY 2003. Interested parties who disagree with the agency's initial judgment can challenge the inclusion or the omission of an activity on the list of activities that are not inherently governmental and, if not satisfied with this review, may demand a higher agency review/appeal.

The Office of Federal Procurement Policy has made available a FAIR Act User's Guide through its Internet site: http://www.whitehouse.gov/OMB/procurement/fair-index.html. This User's Guide will help interested parties review FY 2003 FAIR Act inventories and gain access to agency inventories through agency web-site addresses.

Joshua B. Bolten,
Director.

FIRST FAIR ACT RELEASE 2003
Architectural and Transportation Barriers Compliance Board | Mr. Larry Roffee, 202-272-0001 http://www.access-board.gov.
Chemical Safety Board | Ms. Bea Robinson, 202-261-7627 http://www.csb.gov.
Christopher Columbus Fellowship Foundation | Ms. Judith M. Shellenberger, 315-258-0090 http://www.whitehouse.gov/omb/procurement/fair_list_nosite.html.
Commission on Fine Arts | Mr. Frederick Lindstrom, 202-504-2200 www.http://www.cfa.gov.
Committee for Purchase from People Who are Blind or Severely Disabled | Mr. Leon Wilson, 703-604-7740 http://www.jwod.gov.
Consumer Product Safety Commission | Mr. Edward Quist, 301-504-7655 http://www.cpsc.gov.
Council on Environmental Quality | Mr. Ted Boling, 202-395-3449 http://www.whitehouse.gov/ceq.
Department of Housing and Urban Development | Ms. Janice Blake-Green, 202 708-0614 x3214 http://www.hud.gov.
Department of Housing and Urban Development | Mr. Michael Kirby, 202-708-0614 IG) x8190 http://www.hudoig.gov.
Department of the Interior | Ms. Helen Bradwell-Lynch, 202-219-0727 http://www.doi.gov.
Department of the Interior (IG) | Mr. Eric Lippold, 202-208-5317 http://www.oig.doi.gov.
Department of Transportation | Mr. David Litman, 202-366-4263 http://www.dot.gov.
Equal Employment Opportunity Commission | Mr. Jeffrey Smith, 202-663-4200 http://www.eeoc.gov.
Federal Communications Commission IG | Mr. Charles Willoughby, 202-418-0472 http://www.fcc.gov/org.
Federal Election Commission | Mr. John O'Brien, 202-694-1216 http://www.fec.gov.
Federal Energy Regulatory Commission | Ms. Kimberly Fernandez, 202-208-1298 http://www.ferc.gov.
Federal Labor Relations Authority | Mr. David Smith, 202-218-7999 http://www.flra.gov.
Federal Maritime Commission | Mr. Bruce Dombrowski, 202-523-5800 http://www.fmc.gov.
Federal Mine Safety and Health Review Commission | Mr. Richard Baker, 202-434-9905 http://www.fmshrc.gov.
Holocaust Museum | Ms. Helen Shepherd, 202-314-0396 http://www.ushmm.gov.
James Madison Memorial Fellowship Foundation | Mr. Steve Weiss, 202-653-6109 http://www.jamesmadison.com.
Merit Systems Protection Board | Ms. Deborah Miron, 202-653-6772 x1168 http://www.mspb.gov.
Morris K. Udall Foundation | Mr. Christopher Helms, 520-670-5530 http://www.udall.gov.
National Aeronautics and Space Administration | Mr. Kenneth Sateriale, 202-358-0491 http://www.nasa.gov.
National Council on Disability | Ms. Ethel Briggs, 202-272-2004 http://www.ncd.gov.
National Endowment for the Humanities | Mr. Barry Maynes, 202-606-8233 http://www.neh.gov.
National Gallery of Art | Mr. William Roache, 202-842-6329 http://www.nga.gov
National Labor Relations Board | Mr. Emil George, 202-273-1966 http://www.nlrb.gov.
National Labor Relations Board (IG) | Mr. Emil George, 202-273-1966 http://www.nlrb.gov/ig/igindex.htm.
National Mediation Board | Ms. Grace Ann Leach, 202-692-5010 http://www.nmb.gov.
Occupational Safety and Health Review Commission | Ms. Ledia Bernal, 202-606-5390 http://www.oshrc.gov.
Office of Federal Housing Enterprise Oversight | Ms. Jill Weide, 202-414-3813 http://www.ofheo.gov.
Office of Management and Budget | Ms. Trish Haney, 202-395-4754 http://www.whitehouse.gov/omb/procurement/fair/notices_avail.html.
Office of National Drug Control | Mr. Daniel Petersen, 202-395-6745 http://www.whitehousedrugpolicy.gov.
Office of Navaho and Hopi Indian Relocation | Ms. Nancy Thomas, 928-779-2721 http://www.whitehouse.gov/omb/procurement/fair_list_nosite.html.
Office of the Special Counsel | Ms. Sharyn Danch, 202-653-8971 http://www.osc.gov.
Smithsonian Institution | Ms. Alice Maroni, 202-275-2020 http://www.si.edu.
Woodrow Wilson Center | Ms. Ronnie Dempsey, 202-691-4216 http://wwics.si.edu.

[FR Doc. 03-29076 Filed 11-20-03; 8:45 am]

BILLING CODE 3110-01-P